DEPARTMENT OF HEALTH AND HUMAN SERVICES

Centers for Disease Control and Prevention

[60Day-15-0914; Docket No. CDC-2015-0012]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on Workplace Violence Prevention Programs in New Jersey Healthcare Facilities (OMB No. 0920-0914, expires 02/29/2016). The National Institute for Occupational Safety and Health (NIOSH) is requesting a two year extension in order to complete nursing home interviews.

DATES: Written comments must be received on or before May 26, 2015.

ADDRESSES: You may submit comments, identified by Docket No. CDC-2015-0012 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Workplace Violence Prevention Programs in New Jersey Healthcare Facilities (OMB No. 0920-0914, expires 02/29/2016)—Extension—National Institute for Occupational Safety and Health (NIOSH), Centers for Disease Control and Prevention (CDC).

Background and Brief Description

The National Institute for Occupational Safety and Health (NIOSH) is requesting a two-year extension to complete the nursing home interviews for the project entitled “Workplace Violence Prevention Programs in New Jersey Healthcare Facilities”. The long-term goal of the proposed project is to reduce violence against healthcare workers. The objective of the proposed study is two-fold: (1) To examine healthcare facility compliance with the New Jersey Violence Prevention in Health Care Facilities Act, and (2) to evaluate the effectiveness of the regulations in this Act in reducing assault injuries to workers.

Our central hypothesis is that facilities with high compliance with the regulations will have lower rates of employee violence-related injury. NIOSH received OMB approval (0920-0914) to evaluate the legislation at hospitals and at nursing homes, to conduct a nurse survey and to conduct a home healthcare aide survey. Data collection is complete for the hospitals, the nurse survey, and the home healthcare aide survey. We are requesting an extension to evaluate the legislation at nursing homes.

First, we will conduct face-to-face interviews with the Chairs of the Violence Prevention Committees in 40 nursing homes (20 in New Jersey and 20 in Virginia) who are in charge of overseeing compliance efforts. The purpose of the interviews is to measure compliance to the state regulations (violence prevention policies, reporting systems for violent events, violence prevention committee, written violence prevention plan, violence risk assessments, post incident response and violence prevention training). The details of their Workplace Violence Prevention Program are in their existing policies and procedures. Second, we will also collect assault injury data from nursing home's violent event reports three years pre-regulation (2009-2011) and three years post-regulation (2012-2014). This data is captured in existing Occupational Safety and Health Administration (OSHA) logs and is publicly available. The purpose of collecting these data is to evaluate changes in assault injury rates before and after enactment of the regulations. A contractor will conduct the interviews, collect the nursing home's policies and procedures, and collect the assault injury data (OSHA logs).

Healthcare workers are nearly five times more likely to be victims of violence than workers in all industries combined. While healthcare workers are not at particularly high risk for job-related homicide, nearly 60% of all nonfatal assaults occurring in private industry are experienced in healthcare occupations.

Six states have enacted laws to reduce violence against healthcare workers by requiring workplace violence prevention programs. However, little is understood about how effective these laws are in reducing violence against healthcare workers. We will test our central hypothesis by accomplishing the following specific aims:

1. Compare the comprehensiveness of nursing home workplace violence prevention programs before and after enactment of the New Jersey regulations in nursing homes; Working hypothesis: Based on our preliminary research, we hypothesize that enactment of the regulations will improve the comprehensiveness of nursing home workplace violence prevention program policies, procedures and training.

2. Examine patterns of assault injuries to nursing home workers before and after enactment of the regulations; Working hypothesis: Based on our preliminary research, we hypothesize that rates of assault injuries to nursing home workers will decrease following enactment of the regulations.

Healthcare facilities falling under the regulations are eligible for study inclusion (i.e., nursing homes). A contractor will conduct face-to-face interviews with the chairs of the Violence Prevention Committees at 40 nursing homes, who as stated in regulations, are in charge of overseeing compliance efforts. These individuals will include nursing home administrators. The purpose of the interviews is to measure compliance to the state regulations (Aim 1). The interview form was pilot-tested by the study team in the fall 2010 and includes the following components as mandated in the regulations: Violence prevention policies, reporting systems for violent events, violence prevention committee, written violence prevention plan, violence risk assessments, post incident response and violence prevention training. The nursing home's policy and procedures documents will be obtained by the contractor to provide details about their workplace violence prevention program; a NIOSH employee will complete the abstraction form from the policy and procedures documents received from the contractor. Questions will also be asked about barriers and facilitators to developing the violence prevention program. These data will be collected in the post-regulation time period.

A contractor will also collect assault injury data from nursing home violent event reports three years pre-regulation (2009-2011) and three years post-regulation (2012-2014). This data will be collected from existing OSHA logs; a NIOSH employee will fill out the Employee Incident Form from the OSHA logs received from the contractor. The purpose of collecting these data is to evaluate changes in assault injury rates before and after enactment of the regulations (Aim 2). The following information will be abstracted from the OSHA logs: Date, time and location of the incident; identity, job title and job task of the victim; identity of the perpetrator; description of the violent act, including whether a weapon was used; description of physical injuries; number of employees in the vicinity when the incident occurred, and their actions in response to the incident; recommendations of police advisors, employees or consultants, and; actions taken by the facility in response to the incident. No employee or perpetrator identifiable information will be collected.

There are no costs to respondents other than their time. The total estimated burden hours are 120.

Estimated Annualized Burden Hours
Type of respondents | Form name | Number of respondents | Number of responses per respondent | Average burden per response (in hours) | Total burden (in hours)
Nursing Home Administrator | Interview | 40 | 1 | 1 | 40
Nursing Home Administrator | Abstraction Form | 40 | 1 | 1 | 40
Nursing Home Administrator | Employee Incident Form | 40 | 1 | 1 | 40
Total |  |  |  |  | 120

Leroy A. Richardson,
Chief, Information Collection Review Office, Office of Scientific Integrity, Office of the Associate Director for Science, Office of the Director, Centers for Disease Control and Prevention.

[FR Doc. 2015-07038 Filed 3-26-15; 8:45 am]

BILLING CODE 4163-18-P